DEPARTMENT OF JUSTICE

Office of Justice Programs

Agency Information Collection Activities: Proposed Collection; Comments Requested

ACTION: 30-day notice of information collection under review: New collection: Census of Jail Facilities.

The Department of Justice (DOJ), Office of Justice Programs, Bureau of Justice Statistics has submitted the following information collection request to the Office of Management and Budget (OMB) for review and approval in accordance with the Paperwork Reduction Act of 1995. The proposed information collected is published to obtain comments from the public and affected agencies. The proposed information collected was previously published in the Federal Register at Volume 70, Number 168, page 51846, on August 31, 2005, allowing a 60-day comment period. The purpose of this notice is to allow for an additional 30 days for public comment until March 3, 2006. This process is conducted in accordance with 5 CFR 1320.10.

Written comments and/or suggestions regarding the items contained in this notice, especially the estimated public burden or associated response time, should be directed to The Office of Management and Budget, Office of Information and Regulatory Affairs, Attention Department of Justice Desk Officer, Washington DC 20503. Additionally, comments may be submitted to OMB via facsimile to (202) 395-7285.

Requests for written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g. permitting electronic submission of responses.

Overview of this information collection:

(1) Type of information collection: Reinstatement, with change, of a previously approved collection for which approval has expired.

(2) The title of the Form/Collection: Census of Jail Facilities.

(3) Agency form number, if any, and the applicable component of the Department of Justice sponsoring the collection: Form Number: CJ-3F. Bureau of Justice Statistics, Office of Justice Programs, United States Department of Justice.

(4) Affected public who will be asked to respond, as well as a brief abstract: Primary: County and City jail authorities and Tribal authorities. The Census of Jail Facilities, together with the Census of Jail Inmates, is the foundation for all national statistics on local jails and inmates. These censuses provide the frames from which to generalize to the Nation and to track changes over time. Without a periodic census, sample surveys would be unreliable, only sources of objective descriptions of the operation of local jails.

(5) An estimate of the total number of respondents and the amount of time estimated for an average respondent to respond: Three thousand eighty-four respondents each taking an average of 120 minutes to respnd.

(6) An estimate of the total public burden (in hours) associated with the collection: There are an estimated 6,168 annual total burden hours associated with the collection.

If additional information is required, contact: Robert B. Briggs, Clearance Officer, U.S. Department of Justice, Justice Management Division, Policy and Planning Staff, Patrick Henry Building, Suite 1600, 601 D Street NW, Washington, DC 20531.

Dated: December 23, 2005.
Robert B. Briggs,
Clearance Officer, United States Department of Justice.

[FR Doc. E6-1219 Filed 1-31-06; 8:45 am]

BILLING CODE 4410-18-P